FEDERAL ELECTION COMMISSION

Sunshine Act Meetings

AGENCY: Federal Election Commission

DATE & TIME: Thursday, September 15, 2016 at 10:00 a.m.

PLACE: 999 E Street NW., Washington, DC (Ninth Floor).

STATUS: This meeting will be open to the public.

ITEMS TO BE DISCUSSED:

Correction and Approval of Minutes for July 14, 2016

Correction and Approval of Minutes for August 16, 2016

REG 2014-10: Implementing the Consolidated and Further Continuing Appropriations Act, 2015

REG 2016-03: Political Party Rules

REG 2013-01: Draft Notice of Proposed Rulemaking on Technological Modernization

Request for Guidance on Interpretation of Conciliation Agreement in MUR 5635 (The Viguerie Company, et al.)

Proposal to Rescind Advisory Opinion 2006-15 (TransCanada)

Audit Division Recommendation Memorandum on the Utah Republican Party (URP) (A13-06)

Proposal to Launch Rulemaking to Ensure that U.S. Political Spending is Free from Foreign Influence

Management and Administrative Matters

Individuals who plan to attend and require special assistance, such as sign language interpretation or other reasonable accommodations, should contact Shawn Woodhead Werth, Secretary and Clerk, at (202)694-1040, at least 72 hours prior to the meeting date.

PERSON TO CONTACT FOR INFORMATION: Judith Ingram, Press Officer, Telephone: (202) 694-1220.

Shawn Woodhead Werth,
Secretary and Clerk of the Commission.

[FR Doc. 2016-22039 Filed 9-9-16; 11:15 am]

BILLING CODE 6715-01-P